DEPARTMENT OF THE INTERIOR

Bureau of Land Management

[ES-960-1910-BJ-4041] ES-50776, Group 94, Arkansas

Notice of Filing of Plat of Survey; Arkansas

The plat of the corrective dependent resurvey of a portion of the east boundary, a portion of the south boundary, a portion of the subdivisional lines, and the corrective survey of the subdivision of certain sections in Township 15 North, Range 23 West, Fifth Principal Meridian, Arkansas, will be officially filed in Eastern States, Springfield, Virginia, at 7:30 a.m., on October 2, 2000.

The survey was requested by the National Park Service.

All inquiries or protests concerning the technical aspects of the survey must be sent to the Chief Cadastral Surveyor, Eastern States, Bureau of Land Management, 7450 Boston Boulevard, Springfield, Virginia 22153, prior to 7:30 a.m., October 2, 2000.

Copies of the plat will be made available upon request and prepayment of the appropriate fee.

Dated: August 16, 2000.
Stephen G. Kopach,
Chief Cadastral Surveyor.

[FR Doc. 00-22116 Filed 8-29-00; 8:45 am]

BILLING CODE 4310-GJ-P